DEPARTMENT OF TRANSPORTATION

Surface Transportation Board

[STB Ex Parte No. 672]

Rail Transportation of Resources Critical to the Nation's Energy Supply

AGENCY: Surface Transportation Board, DOT.

ACTION: Notice of public hearing.

SUMMARY: The Surface Transportation Board will hold a public hearing beginning at 9 a.m. on Wednesday, July 18, 2007, in the Ground Floor Conference Room of the Richard Bolling Federal Building, 601 East 12th Street, Kansas City, MO 64106. The purpose of the public hearing will be to examine issues related to the efficiency and reliability of rail transportation of resources critical to the nation's energy supply, including coal, ethanol, and biofuels.

DATES: The public hearing will take place on July 18, 2007. Any person wishing to speak at the hearing should file with the Board a written notice of intent to participate, and should identify the party, the proposed speaker, the time requested, and the topic(s) to be covered, as soon as possible but no later than June 19, 2007. Each speaker should also file with the Board his/her written testimony by July 5, 2007. Written submissions by interested persons who do not wish to appear at the hearing will also be due by July 5, 2007. If a party intends to use audio-visual materials at the hearing, those materials should be submitted to the Board in electronic form by July 13, 2007.

ADDRESSES: All notices of intent to participate and testimony may be submitted either via the Board's e-filing format or in the traditional paper format. Any person using e-filing should attach a document and otherwise comply with the instructions at the E-FILING link on the Board's Web site at http://www.stb.dot.gov. Any person submitting a filing in the traditional paper format should send an original and 10 copies of the filing to: Surface Transportation Board, Attn: STB Ex Parte No. 672, 395 E Street, SW., Washington, DC 20423-0001.

FOR FURTHER INFORMATION, CONTACT: Timothy Strafford, (202) 245-0356. [Assistance for the hearing impaired is available through the Federal Information Relay Service (FIRS) at: (800) 877-8339.]

SUPPLEMENTARY INFORMATION: The Board, created by Congress in 1996 to take over many of the functions previously performed by the Interstate Commerce Commission, exercises broad authority over transportation by rail carriers, including regulation of railroad rates and service (49 U.S.C. 10701-10747, 11101-11124), as well as the construction, acquisition, operation, and abandonment of rail lines (49 U.S.C. 10901-10907) and railroad line sales, consolidations, mergers, and common control arrangements (49 U.S.C. 10902, 11323-11327).

The Board views the reliability of the nation's energy supply as crucial to this nation's economic and national security, and the transportation by rail of coal and other energy resources as a vital link in the energy supply chain. The Board will hold a public hearing, as a forum for interested persons to provide views and information about issues relating to the efficiency and reliability of rail transportation of resources critical to the nation's energy supply.

Date of Hearing. The hearing will begin at 9 a.m. on Wednesday, July 18, 2007 in the Ground Floor Conference Room of the Richard Bolling Federal Building, 601 East 12th Street, Kansas City, MO 64106, and will continue, with breaks as necessary, until every person scheduled to speak has been heard. The Richard Bolling Federal Building is open Monday through Friday from 6 a.m. to 6 p.m. All employees and visitors must present a valid form of photo identification and pass screening before being granted access into the building. Visitors will have access to public areas only.

Notice of Intent To Participate. Any person wishing to speak at the hearing should file with the Board a written notice of intent to participate, and should identify the party, the proposed speaker, the time requested, and topic(s) to be covered, as soon as possible, but no later than June 19, 2007.

Testimony. Each speaker should file with the Board his/her written testimony by July 5, 2007. Also, any interested person who wishes to submit a written statement without appearing at the July 18 hearing should file that statement by July 5, 2007. If a party intends to use audio-visual materials at the hearing, those materials should be submitted to the Board in electronic form by July 13, 2007.

Board Releases and Live Audio Available Via the Internet. Decisions and notices of the Board, including this notice, are available on the Board's Web site at http://www.stb.dot.gov. Information concerning the availability of live audio streaming of this hearing will be included in the decision scheduling speaker times.

This action will not significantly affect either the quality of the human environment or the conservation of energy resources.

Dated: June 6, 2007.
Vernon A. Williams,
Secretary.

[FR Doc. E7-11236 Filed 6-8-07; 8:45 am]

BILLING CODE 4915-01-P